DEPARTMENT OF THE INTERIOR

Fish and Wildlife Service

Information Collection Sent to the Office of Management and Budget (OMB) for Approval; OMB Control Number 1018-0121; Depredation Orders for Double-Crested Cormorants

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on October 31, 2006. We may not conduct or sponsor and a person is not required to respond to a collection of information unless it displays a currently valid OMB control number. However, under OMB regulations, we may continue to conduct or sponsor this information collection while it is pending at OMB.

DATES: You must submit comments on or before November 24, 2006.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey at one of the addresses above or by telephone at (703) 358-2482.

SUPPLEMENTARY INFORMATION: OMB Control Number: 1018-0121.

Title: Depredation Orders for Double-Crested Cormorants, 50 CFR 21.47 and 21.48.

Service Form Number: None.

Type of Request: Revision of a currently approved collection.

Affected Public: Aquaculture producers, State fish and wildlife agencies, tribes, and Federal agencies.

Respondent's Obligation: Required to obtain or retain benefits.

Frequency of Collection: Annually for reports; ongoing for recordkeeping.

Activity/requirement | Annual number of respondents | Total annual responses | Completion time per response (hours) | Total annual burden hrs | Total burden cost to public ($30/hr)
Report take of MB species other than DCCOs (21.47(d)(7) & 21.48(d)(7)) | 1 | 1 | 1 | 1 | $30
Report take of species protected under ESA (21.47(d)(8) & 21.48(d)(8)) | 1 | 1 | 1 | 1 | 30
Written notice of intent to conduct control activities (21.48(d)(9)) | 12 | 12 | 3 | 36 | 1,080
Report of Control Activities (21.48(d)(10) & (11)) | 12 | 12 | 20 | 240 | 7,200
Report Effects of Management Activities (21.48(d)(12)) | 9 | 9 | 100 | 900 | 27,000
DCCO Depredation Order Recordkeeping (21.47(d)(9)) | 500 | 500 | 7 | 3,500 | 105,000
Totals | 535 | 535 |  | 4,678 | 140,340

Abstract: This information collection is associated with regulations implementing the Migratory Bird Treaty Act (MBTA) (16 U.S.C. 703 et seq.). Under the MBTA, it is unlawful to take, possess, import, export, transport, sell, purchase, barter, or offer for sale, purchase, or barter, migratory birds or their parts, nests, or eggs, except as authorized by regulations implementing the MBTA. In 2003, we promulgated regulations to authorize the take of double-crested cormorants (DCCOs) under certain circumstances. The regulations at 50 CFR 21.47 (Aquaculture Depredation Order) authorize aquaculture producers in 13 States to take DCCOs when the birds are found committing or about to commit depredations on commercial freshwater aquaculture stocks. The regulations at 50 CFR 21.48 (Public Resource Depredation Order) authorize State fish and wildlife agencies, the U.S. Department of Agriculture (APHIS-Wildlife Services), and federally recognized tribes in 24 States to take DCCOs to prevent depredations on the public resources of fish, wildlife, plants, and their habitats.

Both 50 CFR 21.47 and 21.48 impose reporting and recordkeeping requirements on those operating under the depredation orders. We use the information collected to:

(1) Help assess the impact of the depredation orders on DCCO populations.

(2) Protect nontarget migratory birds or other species.

(3) Ensure that agencies and individuals are conforming to the terms, conditions, and purpose of the orders.

(4) Help gauge the effectiveness of the orders at mitigating cormorant-related damages.

Comments: On April 19, 2006, we published in the Federal Register (71 FR 20120) a notice of our intent to request that OMB renew approval for this information collection. In that notice, we solicited public comments for 60 days, ending on June 19, 2006. We received two comments.

The first commenter noted opposition to the killing of cormorants but, for the most part, did not specifically address the information collection except to say that “this paperwork * * * is ineffectual in even recording the actual numbers killed.” We believe that the reporting provides valid information about the number of birds killed.

Following are comments by the second commenter and our responses:

Comment: The information will have practical utility only if it is freely accessible to other individuals to assess the accuracy and predictability of the outcomes.

Response: We have found the information useful and it is available upon request.

Comment: The accuracy of the burden estimate for this collection of information is only valid if cross-validation is allowed and reassessment of the data by another is conducted without knowledge of the outcome (blind tests).

Response: The accuracy of the estimate might be enhanced, but we believe it is of sufficient quality as reported.

Comment: The quality, utility, and clarity of the information collected must have transparency, ground truthing, and redundancy by collaborators and outside entities.

Response: We do not believe that ground truthing or other confirmation of the limited data collected is necessary.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents. Comments submitted in response to this notice are a matter of public record.

Dated: August 28, 2006.
Hope Grey,
Information Collection Clearance Officer, Fish and Wildlife Service.

[FR Doc. E6-17826 Filed 10-24-06; 8:45 am]

BILLING CODE 4310-55-P